ENVIRONMENTAL PROTECTION AGENCY

40 CFR Part 52

[GA44 & GA36-9948a; FRL-6547-4 ]

Approval and Promulgation of Revisions to the Georgia State Implementation Plan

AGENCY: Environmental Protection Agency (EPA).

ACTION: Direct final rule.

SUMMARY: The EPA is approving the State Implementation Plan (SIP) revisions submitted by the State of Georgia on February 11, 1998, and November 19, 1998. The February 11, 1998, revisions update references to the August 15, 1997, version of Georgia's “Procedures for Testing and Monitoring Sources of Air Pollutants” manual. The November 19, 1998, revisions adopt new Permit by Rule provisions for several, small source categories, including: certain types of fuel-burning equipment, on-site power generation, concrete mixing plants, hot mix asphalt plants, cotton ginning operations, coating and/or gluing operations, printing operations, non-reactive mixing operations, fiberglass molding and forming operations, and peanut/nut shelling operations.

For these categories of sources that operate below the major source threshold, the rules may negate the need to file for a Part 70 Permit (also known as a “Title V Permit”) or a synthetic minor permit.

DATES: This direct final rule is effective May 12, 2000 without further notice, unless EPA receives adverse comment by April 12, 2000. If adverse comment is received, EPA will publish a timely withdrawal of the direct final rule in the Federal Register and inform the public that the rule will not take effect.

ADDRESSES: All comments should be addressed to: Michele Notarianni, Air Planning Branch, Air, Pesticides, and Toxics Management Division, EPA Region 4, 61 Forsyth Street, SW, Atlanta, Georgia 30303.

Copies of the State's submittals are available at the following addresses for inspection during normal business hours:

EPA Region 4, Air Planning Branch, 61 Forsyth Street, SW, Atlanta, Georgia 30303. (To make an appointment, please contact Michele Notarianni at 404/562-9031.)

Air Protection Branch, Georgia Environmental Protection Division, Georgia Department of Natural Resources, 4244 International Parkway, Suite 120, Atlanta, Georgia 30354.

FOR FURTHER INFORMATION CONTACT: Michele Notarianni at 404/562-9031 (or by e-mail at: notarianni.michele@epa.gov).

SUPPLEMENTARY INFORMATION:

I. Revisions Approved by EPA

The EPA is approving SIP revisions to Georgia's Rules for Air Quality Control included in the February 11, 1998, and the November 19, 1998, submittals. Below is a summary of the approved revisions.

Air Quality Control, Rule 391-3-1

• Rule 391-3-1.02(3): The revision updates the reference date of Georgia's “Procedures for Testing and Monitoring Sources of Air Pollutants” manual from March 1, 1997, to August 15, 1997.

• Rule 391-3-1.02(6): The revisions to subparagraphs (a)2.(v)(I), (a)2.(vii)(I), (a)2.(vii)(II)I, and (b)1.(vi) update the reference date of Georgia's “Procedures for Testing and Monitoring Sources of Air Pollutants” manual from March 1, 1997, to August 15, 1997.

• Rule 391-3-1-.03(11): A new paragraph, (11), is added to adopt new Permit by Rule provisions for the following 11 small source categories: (1) Fuel-burning equipment burning natural gas/liquid petroleum gasoline (LPG) and/or distillate oil; (2) fuel-burning equipment burning natural gas/LPG and/or residual oil; (3) on-site power generation; (4) concrete mixing plants; (5) hot mix asphalt plants; (6) cotton ginning operations; (7) coating and/or gluing operations; (8) printing operations; (9) non-reactive mixing operations; (10) fiberglass molding and forming operations; and (11) peanut/nut shelling operations. For these categories of sources that operate below the major source threshold, the rules may negate the need to file for a Part 70 Permit or for a synthetic minor permit. Facilities in these categories that have potential emissions greater than major source thresholds even after the Permit by Rule is met or are not able to meet the relevant conditions established in the Permit by Rule may be required to obtain a Part 70 Permit. A more detailed description of this new paragraph follows.

—Rule 391-3-1-.03(11)(a): A new subparagraph, (a), is added to identify general requirements for sources covered by the Permit by Rule. Eligible facilities must certify in writing to the Georgia EPD that they can comply with the Permit by Rule.

—Rule 391-3-1-.03(11)(b)1: A new subsection, (b)1, is added to establish Permit by Rule standards for applicable facilities with fuel-burning equipment burning natural gas/LPG and/or distillate oil. Applicable facilities must meet the following conditions. During any 12 consecutive months, facility fuel usage is limited to 900 million cubic feet of natural gas (or 7.0 million gallons of LPG) and 1.6 million gallons of distillate oil except in the counties of Cherokee, Clayton, Cobb, Coweta, DeKalb, Douglas, Fayette, Forsyth, Fulton, Gwinnett, Henry, Paulding, and Rockdale (13 county ozone nonattainment area), where fuel usage is limited to 450 million cubic feet of natural gas (or 3.5 million gallons of LPG) and 800,000 gallons of distillate oil. Monitoring and record keeping requirements include maintaining a log of monthly fuel usage.

—Rule 391-3-1-.03(11)(b)2: A new subsection, (b)2, is added to establish Permit by Rule standards for applicable facilities with fuel-burning equipment burning natural gas/LPG and/or residual oil. Applicable facilities must meet the following conditions. During any 12 consecutive months, annual facility fuel usage is limited to 1,000 million cubic feet of natural gas (or 7.5 million gallons of LPG) and 400,000 gallons of residual fuel oil except in the 13 county ozone nonattainment area, where fuel usage is limited to 400 million cubic feet of natural gas (or 3.2 million gallons of LPG) and 400,000 gallons of residual fuel oil. Monitoring and record keeping requirements include maintaining a log of monthly fuel usage.

—Rule 391-3-1-.03(11)(b)3: A new subsection, (b)3, is added to establish Permit by Rule standards for applicable facilities that operate fuel-burning equipment for on-site power generation. Applicable facilities must meet the following conditions. During any 12 consecutive months, a facility's power generation is limited to a total of no more than 6.7 million horsepower-hours except in the 13 county ozone nonattainment area, where the total is no more than 3.35 million horsepower-hours. Monitoring and record keeping requirements include maintaining a log of the monthly total horsepower-hours for the facility based on the number of hours of operation of each unit per month multiplied by the maximum horsepower rating of that unit.

—Rule 391-3-1-.03(11)(b)4: A new subsection, (b)4, is added to establish Permit by Rule standards for applicable concrete mixing plants, which must meet the following conditions to operate under the Permit by Rule. Production on the plant site is limited to 600,000 cubic yards during any 12 consecutive months. Monitoring and record keeping requirements include maintaining a log of the plant's monthly production.

—Rule 391-3-1-.03(11)(b)5: A new subsection, (b)5, is added to establish Permit by Rule standards for applicable hot mix asphalt plants, which must meet the following conditions to operate under the Permit by Rule. New asphalt plants (which commenced construction or modification after June 11, 1973), permitted to burn natural gas/LPG and/or distillate oil only must maintain a log of the monthly production and hours of operation and, during any 12 consecutive months, must limit production to 400,000 tons and operation to 3,000 hours. During any 12 consecutive months, new and existing asphalt plants permitted to burn natural gas/LPG, distillate oil, and residual oil in any combination must limit: production to 200,000 tons, operation to 3,000 hours, fuel oil usage to 678,000 gallons, and fuel sulfur content to less than or equal to 1.5%. Monitoring and record keeping requirements for these plants include maintaining fuel oil certifications showing sulfur content less than or equal to 1.5% and a log of production, hours of operation, and monthly fuel use.

—Rule 391-3-1-.03(11)(b)6: A new subsection, (b)6, is added to establish Permit by Rule standards for applicable cotton ginning operations. To operate under the Permit by Rule, applicable facilities must limit production to 65,000 standard bales of cotton during any 12 consecutive months and maintain a log of the monthly production.

—Rule 391-3-1-.03(11)(b)7: A new subsection, (b)7, is added to establish Permit by Rule standards for applicable coating and/or gluing operations. Applicable facilities must meet the monitoring and record keeping requirements and declare which of the four, following options will be met to operate under the Permit by Rule. The options are: (1) Consumption of any Volatile Organic Compound (VOC) and/or Hazardous Air Pollutant (HAP) containing materials shall be less than 20,000 pounds during any 12 consecutive months; (2) usage of coating, gluing, cleaning, and washoff materials shall be less than 250 total gallons each month; (3) usage of coating, gluing, cleaning, and washoff materials shall be less than 3,000 total gallons per rolling 12-month period; or (4) usage of materials containing less than five tons of any one HAP per rolling 12-month period, less than 12.5 tons of any combination of HAPs per rolling 12-month period, less than 25 tons of VOC per rolling 12-month period for sources located in the 13 county ozone nonattainment area, and less than 50 tons of VOC per rolling 12-month period for facilities not located in the 13 county ozone nonattainment area.

—Rule 391-3-1-.03(11)(b)8: A new subsection, (b)8, is added to establish Permit by Rule standards for applicable printing operations, which must meet the following conditions to operate under the Permit by Rule. The consumption of any VOC and/or HAP emitting materials (including but not limited to inks, thinners, and solvents) by the facility is limited to 20,000 pounds during any 12 consecutive months. Monitoring and record keeping requirements include maintaining a log of the monthly consumption of VOC and/or HAP containing material.

—Rule 391-3-1-.03(11)(b)9: A new subsection, (b)9, is added to establish Permit by Rule standards for applicable non-reactive mixing operations, which must meet the following conditions to operate under the Permit by Rule. Materials mixed are limited to 500 tons during any 12 consecutive months, mixing/blending tanks must be equipped with lids, mixing tanks must be maintained at a temperature of less than 150 degree Fahrenheit, and tank lids must be closed at all times during operation except when charging raw materials, retrieving samples, or discharging finished product. Monitoring and record keeping requirements include maintaining a monthly log of materials mixed.

—Rule 391-3-1-.03(11)(b)10: A new subsection, (b)10, is added to establish Permit by Rule standards for applicable fiberglass molding and forming operations, which must meet the following conditions to operate under the Permit by Rule. During any 12 consecutive months, annual facility material usage (i.e., the combined weight of polyester resin and gel coat) is limited to 89,000 pounds for any combination of hand and spray lay-up operations or 120,000 pounds for spray lay-up operations only. Monitoring and record keeping requirements include maintaining a log of the combined monthly usage of polyester resin and gel coat.

—Rule 391-3-1-.03(11)(b)11: A new subsection, (b)11, is added to establish Permit by Rule standards for applicable peanut/nut shelling operations, which must meet the following conditions to operate under the Permit by Rule. During any 12 consecutive months, facility process input is limited to 130,000 tons of unshelled nuts and annual hours of operation shall not exceed 5,000 hours. Monitoring and record keeping requirements include maintaining a log of the monthly unshelled peanuts/nuts processed.

II. Final Action

The EPA is approving the aforementioned changes to the Georgia SIP because they are consistent with Agency policy and the Clean Air Act as amended in 1990. The EPA is publishing this rule without prior proposal because the Agency views this as a noncontroversial submittal and anticipates no adverse comments. However, in the proposed rules section of this Federal Register publication, EPA is publishing a separate document that will serve as the proposal to approve the SIP revision should adverse comments be filed. This rule will be effective May 12, 2000 without further notice unless the Agency receives adverse comments by April 12, 2000.

If the EPA receives such comments, then EPA will publish a document withdrawing the final rule and informing the public that the rule will not take effect. All public comments received will then be addressed in a subsequent final rule based on the proposed rule. The EPA will not institute a second comment period. Parties interested in commenting should do so at this time. If no such comments are received, the public is advised that this rule will be effective on May 12, 2000.

III. Administrative Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988), by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by May 12, 2000. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Administrative practice and procedure, Air pollution control, Carbon monoxide, Hydrocarbons, Intergovernmental relations, Nitrogen dioxide, Ozone, Particulate matter, Reporting and recordkeeping requirements, Sulfur oxides.

Dated: February 14, 2000.
A. Stanley Meiburg,
Acting Regional Administrator, Region 4.

Accordingly, for the reasons set forth in the preamble, Part 52 of chapter I, title 40, Code of Federal Regulations, is amended as follows:

PART 52—[AMENDED]

1. The authority citation for part 52 continues to read as follows:

Authority: 42.U.S.C. 7401 et seq.

Subpart—L—Georgia

§ 52.570 [AMENDED]

2. In § 52.570, a. Adding in numerical order an entry for “391-3-1-.03(11)” to the table in paragraph (c).

b. Revising the entries for “391-3-1-.02(3)”, and “391-3-1-.02(6)” in the table to paragraph (c).

§ 52.570 Identification of plan.

* * * * *

(c)

EPA Approved Georgia Regulations
State citation | Title/subject | State effective date | EPA approval date | Explanation
* * * * * * *
391-3-1-.02(3) | Sampling | 12/25/97 | 3/13/00 |
* * * * * * *
391-3-1-.02(6) | Source Monitoring | 12/25/97 | 3/13/00 |
* * * * * * *
391-3-1-.03(11) | Permit by Rule | 12/25/97 | 3/13/00 |
* * * * * * *

[FR Doc. 00-5386 Filed 3-10-00; 8:45 am]

BILLING CODE 6560-50-P